FEDERAL ELECTION COMMISSION

Sunshine Act Meetings

AGENCY: Federal Election Commission.

DATE AND TIME: Thursday, October 9, 2014 at 10 a.m.

PLACE: 999 E Street NW., Washington, DC (ninth floor).

STATUS: This meeting will be open to the public.

ITEMS TO BE DISCUSSED:

Correction and Approval of Minutes for September 18, 2014

Citizens United v. FEC Rulemaking

McCutcheon v. FEC Interim Final Rule

McCutcheon v. FEC Advance Notice of Proposed Rulemaking

Draft Advisory Opinion 2014-12: Democratic National Committee and Republican National Committee

Draft Advisory Opinion 2014-14: John Trammell

Draft Advisory Opinion 2014-15: David Alan Brat

Management and Administrative Matters

Individuals who plan to attend and require special assistance, such as sign language interpretation or other reasonable accommodations, should contact Shawn Woodhead Werth, Secretary and Clerk, at (202)694-1040, at least 72 hours prior to the meeting date.

PERSON TO CONTACT FOR INFORMATION: Judith Ingram, Press Officer, Telephone: (202) 694-1220.

Shawn Woodhead Werth,
Secretary and Clerk of the Commission.

[FR Doc. 2014-23952 Filed 10-2-14; 4:15 pm]

BILLING CODE 6715-01-P